FEDERAL MINE SAFETY AND HEALTH REVIEW COMMISSION

Sunshine Act Meeting

June 9, 2004.

Time and Date: 1 p.m., Tuesday, June 29, 2004.

Place: Department of Labor Auditorium, U.S. Department of Labor, Francis Perkins Building, 200 Constitution Avenue, NW., Washington, DC.

Status: Open.

Matters to Be Considered: The Commission will hear oral argument on an appeal of Twentymile Coal Company from the decision of an administrative law judge in Secretary of Labor v. Twentymile Coal Company, Docket No. WEST 2002-194. (Issues include whether the judge correctly determined that the Secretary of Labor properly cited Twentymile Coal Company for violations of mandatory safety standards committed by its independent contractor.)

Any person attending this oral argument who requires special accessibility features and/or auxiliary aids, such as sign language interpreters, must inform the Commission in advance of those needs. Subject to 29 CFR § 2706.150(a)(3) and § 2706.160(d).

FOR FURTHER INFORMATION CONTACT: Jean Ellen, (202) 434-9950/(202) 708-9300 for TDD Relay/1-800-877-8339 for toll free.

Jean H. Ellen,
Chief Docket Clerk.

[FR Doc. 04-13787 Filed 6-15-04; 8:45 am]

BILLING CODE 6735-01-M